DEPARTMENT OF TRANSPORTATION

Coast Guard

33 CFR Part 117

[CGD08-01-044]

Drawbridge Operating Regulation; Lake Pontchartrain, LA

AGENCY: Coast Guard, DOT.

ACTION: Notice of temporary deviation from regulations.

SUMMARY: The Commander, Eighth Coast Guard District has issued a temporary deviation from the regulation governing the operation of the bascule spans of the Greater New Orleans Expressway Commission Causeway across Lake Pontchartrain between Metairie, Jefferson Parish and Mandeville, St. Tammany Parish, Louisiana. This deviation allows the draws of the bridges to remain closed to navigation from 6 a.m. on Monday, December 17, 2001 until 6 a.m. on Wednesday, December 19, 2001. This temporary deviation allows for the connection of new submarine cables to operate the draw spans of the bridges.

DATES: This deviation is effective from 6 a.m. on Monday, December 17, 2001 until 6 a.m. on Wednesday, December 19, 2001.

ADDRESSES: Unless otherwise indicated, documents referred to in this notice are available for inspection or copying at the office of the Eighth Coast Guard District, Bridge Administration Branch, Commander (ob), 501 Magazine Street, New Orleans, Louisiana, 70130-3396 between 7 a.m. and 3 p.m., Monday through Friday, except Federal holidays. The Bridge Administration Branch maintains the public docket for this temporary deviation.

FOR FURTHER INFORMATION CONTACT: David Frank, Bridge Administration Branch, telephone (504) 589-2965.

SUPPLEMENTARY INFORMATION: Presently, the draw is required to open on signal if at least three hours notice is given; except that, the draw need not be opened for the passage of vessels Monday through Friday except Federal holidays from 5:30 a.m. to 9:30 a.m. and from 3 p.m. until 7 p.m. The draw opens on signal for any vessel in distress or vessel waiting immediately following the closures listed above.

During the closure period, the bridges will not be able to open for vessels to transit through the bascule spans of the bridge. The bridges have a vertical clearance of 42 feet above mean high water in the closed-to-navigation position. Navigation on the waterway consists of small tugs with tows, fishing vessels, sailing vessels, and other recreational craft. In case of an emergency, the bridge owner will be able to hand crank the draws of the bridges to the open-to-navigation position. As an alternate route, the south channel fixed spans of the dual bridges provide a vertical clearance of 50 feet above mean high water.

The Greater New Orleans Expressway Commission requested a temporary deviation from the normal operation of the drawbridge in order to allow for the connection of new submarine cables to operate the draw spans of the bridges.

This deviation allows the draws of the bridges of the Greater New Orleans Expressway Commission Causeway across Lake Pontchartrain to remain closed to navigation from 6 a.m. on Monday, December 17, 2001 until 6 a.m. on Wednesday, December 19, 2001.

Dated: December 3, 2001.
J. R. Whitehead,
Captain, U.S. Coast Guard, Commander, 8th Coast Guard Dist., Acting.

[FR Doc. 01-30475 Filed 12-7-01; 8:45 am]

BILLING CODE 4910-15-U